SMALL BUSINESS ADMINISTRATION

[License No. 02/02-0535]

Argentum Capital Partners, LP; Notice Seeking Exemption Under Section 312 of the Small Business Investment Act, Conflicts of Interest

Notice is hereby given that Argentum Capital Partners, LP, 60 Madison Avenue, Suite 701, New York, NY 10010, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2009)). Argentum Capital Partners, LP proposes to provide a bridge loan to M Cubed Technologies, Inc., 921 Main Street, Monroe, CT 06468. The financing is contemplated for working capital and general corporate purposes.

The financing is brought within the purview of § 107.730(a)(1) of the Regulations because Argentum Capital Partners II, LP, an Associate of Argentum Capital Partners, LP, owns more than ten percent of M Cubed Technologies, Inc.

Therefore, this transaction is considered a financing of an Associate requiring an exemption. Notice is hereby given that any interested person may submit written comments on the transaction within fifteen days of the date of this publication to the Acting Associate Administrator for Investment, U.S. Small Business Administration, 409 Third Street, SW., Washington, DC 20416.

March 16, 2009.
Harry Haskins,
Acting Associate Administrator for Investment.

[FR Doc. E9-6189 Filed 3-20-09; 8:45 am]

BILLING CODE